DEPARTMENT OF ENERGY

Federal Energy Regulatory Commission

[Project Nos. 13212-001; 13211-001]

Kenai Hydro, L.L.C.; Notice of Intent To File License Application, Filing of Pre-Application Document, and Approving Use of the Traditional Licensing Process

September 16, 2009.

a. Type of Filing: Notice of Intent to File License Application and Request to Use the Traditional Licensing Process.

b. Project Nos.: 13212-001 and 13211-001.

c. Date Filed: August 6, 2009.

d. Submitted By: Kenai Hydro, L.L.C.

e. Name of Project: Grant Lake/Falls Creek Hydroelectric Project.

f. Location: On Grant Lake, Grant Creek and Falls Creek on the Kenai Peninsula, near the community of Moose Pass, Alaska. Portions of the project would occupy Federal lands within the Chugach National Forest, administered by the U.S. Forest Service.

g. Filed Pursuant to: Federal Power Act, 16 U.S.C. 808(b)(1) and 18 CFR 5.5 of the Commission's regulations.

h. Potential Applicant Contact: Steve Gilbert, Kenai Hydro, L.L.C., 6921 Howard Avenue, Anchorage, AK 99504; or e-mail at SteveG@enxco.com.

i. FERC Contact: Joseph Adamson at (202) 502-8085; or e-mail at joseph.adamson@ferc.gov.

j. On August 6, 2009, Kenai Hydro, L.L.C. filed its request to use the Traditional Licensing Process and provided public notice of its request. In a letter dated September 15, 2009, the Director, Division of Hydropower Licensing, approved Kenai Hydro, L.L.C.'s request to use the Traditional Licensing Process.

k. With this notice, we are initiating informal consultation with: (a) The U.S. Fish and Wildlife Service and NOAA Fisheries under section 7 of the Endangered Species Act and the joint agency regulations thereunder at 50 CFR, part 402; (b) NOAA Fisheries under section 305(b) of the Magnuson-Stevens Fishery Conservation and Management Act and implementing regulations at 50 CFR 600.920; and (c) the Alaska State Historic Preservation Officer, as required by section 106 of the National Historic Preservation Act, and the implementing regulations of the Advisory Council on Historic Preservation at 36 CFR 800.2.

l. With this notice, we are designating Kenai Hydro, L.L.C. as the Commission's non-Federal representative for carrying out informal consultation, pursuant to section 7 of the Endangered Species Act, section 305 of the Magnuson-Stevens Fishery Conservation and Management Act, and section 106 of the National Historic Preservation Act.

m. Kenai Hydro, L.L.C. filed a Pre-Application Document (PAD, including a proposed process plan and schedule) with the Commission, pursuant to 18 CFR 5.5 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov or toll free at 1-866-208-3676, or for TTY, (202) 502-8659. A copy is also available for inspection and reproduction at the address in paragraph h.

o. Register online at http://www.ferc.gov/docs-filing/esubscription.asp to be notified via e-mail of new filing and issuances related to this or other pending projects. For assistance, contact FERC Online Support.

Kimberly D. Bose,
Secretary.

[FR Doc. E9-22856 Filed 9-22-09; 8:45 am]

BILLING CODE 6717-01-P